DEPARTMENT OF DEFENSE

Department of the Navy

Board of Advisors to the Presidents of the Naval Postgraduate School and the Naval War College; Notice of Federal Advisory Committee Meeting

AGENCY: Department of the Navy, Board of Advisors to the Presidents of the Naval Postgraduate School and the Naval War College, Department of Defense.

ACTION: Notice of Federal Advisory Committee Meeting.

SUMMARY: The Department of Defense (DoD) is publishing this notice to announce that the following Federal Advisory Committee meeting of the Board of Advisors to the Presidents of the Naval Postgraduate School and the Naval War College, Board of Advisors (BOA) to The President of the Naval War College (NWC) Subcommittee will take place.

DATES: Day 1—Open to the public Thursday April 5, 2018 from 8:00 a.m. to 4:00 p.m. Day 2—Open to the public Friday April 6, 2018 from 8:30 a.m. to 11:00 a.m.

ADDRESSES: The meeting will be held at the U.S. Naval War College, 686 Cushing Road, Newport, RI 02841.

FOR FURTHER INFORMATION CONTACT: Jacquelyn (Jaye) Panza, (831) 656-2514 (Voice), (831) 656-2789 (Facsimile), jpanza@nps.edu (Email). Mailing address is Naval Postgraduate School, 1 University Circle, Monterey, CA 93943-5001. Website: https://my.nps.edu/web/board-of-advisors/home.The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the Board is to advise and assist the President, NWC, in educational and support areas, providing independent advice and recommendations on items such as, but not limited to, organizational management, curricula, methods of instruction, facilities, student and faculty morale, and other matters of interest.

Agenda: The agenda for Thursday is as follows: 8:00 a.m.-11:45 a.m. Board Discussion with NWC President, 11:45 a.m.-1:15 p.m. Meet with NWC students, 1:15 p.m.-2:45 p.m. Attend Elective Classes, 2:45 p.m.-3:45 p.m. Meet with NWC Faculty Members, 3:45 p.m.-4:15 p.m. NWC Foundation Discussion, 4:15 p.m.-4:45 p.m. Annual FACA Board Member Ethics Training. The agenda for Friday is as follows: 8:30 a.m.-10 a.m. Board Business and Discussion, 11 a.m. Meeting Adjourn. Meeting Accessibility: The meeting room is accessibility to persons with disabilities. To coordinate access contact Dr. Thomas Gibbons, Professor of Professional or (401) 841-4008 by March 30, 2018.

Written Statements: To send written statements for consideration at the committee meeting contact the Designated Federal Official, Ms. Jaye Panza, 1 University Circle, Monterey, CA 93943 or by fax (831) 656-3238 by March 30, 2018.

Dated: March 12, 2018.
E.K. Baldini,
Lieutenant Commander, Judge Advocate General's Coms, U.S. Navy, Federal Register Liaison Officer.

[FR Doc. 2018-05351 Filed 3-15-18; 8:45 am]

BILLING CODE 3810-FF-P